DEPARTMENT OF TRANSPORTATION

Surface Transportation Board

[STB Finance Docket No. 34638]

San Diego & Imperial Valley Railroad Company, Inc.—Lease and Operation Exemption—BNSF Railway Company ¹

¹ Effective January 20, 2005, the name of “The Burlington Northern and Santa Fe Railway Company” was changed to “BNSF Railway Company.”

San Diego & Imperial Valley Railroad Company, Inc. (SDIV), a Class III rail carrier, has filed a verified notice of exemption under 49 CFR 1150.41 to lease and operate, pursuant to an agreement with BNSF Railway Company (BNSF), approximately 1.35 miles of BNSF's permanent and exclusive reserved rail freight service easement located between milepost 19.85, west of Escondido, and at or near milepost 21.2, at the eastern end of the rail corridor in Escondido, in San Diego County, CA.

SDIV certifies that its projected annual revenues as a result of this transaction will not result in SDIV's becoming a Class II rail carrier, and further certifies that its projected annual revenues will not exceed $5 million.

The transaction is expected to be consummated on March 1, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34638, must be filed with the Surface Transportation Board, 1925 K Street NW., Washington, DC 20423-0001. In addition, one copy of each pleading must be served on Gary A. Laakso, Esq., Vice President Regulatory Counsel, San Diego & Imperial Valley Railroad Company, Inc., 5300 Broken Sound Blvd., NW., Boca Raton, FL 33487, and Louis E. Gitomer, Esq., Of Counsel, Ball Janik LLP, Suite 225, 1455 F Street, NW., Washington, DC 20005.

Board decisions and notices are available on our Web site at http://www.stb.dot.gov.

Decided: February 22, 2005.
By the Board, David M. Konschnik, Director, Office of Proceedings.
Vernon A. Williams,
Secretary.

[FR Doc. 05-3985 Filed 3-1-05; 8:45 am]

BILLING CODE 4915-01-P